DEPARTMENT OF TRANSPORTATION

Surface Transportation Board

[Docket No. FD 35413]

Lancaster & Chester Railroad, LLC—Acquisition and Operation Exemption—Line of Lancaster & Chester Railway Company

Lancaster & Chester Railroad, LLC (L&C Railroad), a noncarrier, has filed a verified notice of exemption under 49 CFR 1150.31 to acquire and operate approximately 62 miles of rail line owned by Class III rail carrier Lancaster & Chester Railway Company as follows: (1) Approximately 29 miles of rail line from Chester, S.C. (milepost 0.0) to Lancaster, S.C. (milepost 29.0), plus approximately 2 miles of connecting track from milepost 5.0 in Chester County, S.C., to the connection with Consolidated Rail Corporation at former Survey Station 0+06 (milepost SG-346+2210) of the Seaboard Coast Line Railroad Company in Chester County; and (2) approximately 31 miles of rail line from Kershaw, S.C. (milepost SB-58.7) to Catawba, S.C. (milepost SB-89.5) including, for each of the lines, related rail property and trackage.

Because L&C Railroad's projected annual revenues will exceed $5 million, L&C Railroad certified to the Board on August 30, 2010, that it had complied with the requirements of 49 CFR 1150.32(e) providing for notice to employees and their labor unions on the affected line. L&C Railroad also certified that its projected revenues as a result of this transaction will not exceed those that would qualify it as a Class III carrier.

This transaction is related to a concurrently filed verified notice of exemption in Docket No. FD 35414, Gulf & Ohio Railways Holding Co., Inc., H. Peter Claussen and Linda C. Claussen—Continuance in Control Exemption—Lancaster & Chester Railroad, LLC, wherein the above parties seek to continue in control of L&C Railroad, upon L&C Railroad's becoming a Class III rail carrier.

The transaction may be consummated on or after October 31, 2010 (the effective date of the exemption).

If the verified notice contains false or misleading information, the exemption is void ab initio. Petitions to revoke the exemption under 49 U.S.C. 10502(d) may be filed at any time. The filing of a petition to revoke will not automatically stay the effectiveness of the exemption. Petitions for stay must be filed no later than October 22, 2010 (at least 7 days before the exemption becomes effective).

An original and 10 copies of all pleadings, referring to Docket No. FD 35413, must be filed with the Surface Transportation Board, 395 E Street, SW., Washington, DC 20423-0001. In addition, a copy of each pleading must be served on Troy W. Garris, 2904 Corporate Cir., Flower Mound, TX. 75028.

Board decisions and notices are available on our Web site at http://www.stb.dot.gov.

Decided: October 7, 2010.
By the Board, Rachel D. Campbell, Director, Office of Proceedings.
Jeffrey Herzig,
Clearance Clerk.

[FR Doc. 2010-25939 Filed 10-14-10; 8:45 am]

BILLING CODE 4915-01-P